DEPARTMENT OF TRANSPORTATION

Federal Aviation Administration

14 CFR Part 71

[Docket No. FAA-2020-0868; Airspace Docket No. 20-AAL-26]

RIN 2120-AA66

Amendment to Alaskan VOR Federal Airway V-319, United States Area Navigation (RNAV) Routes, T-219 and T-269, and Revocation of Federal Colored Airway R-50; Alaska

AGENCY: Federal Aviation Administration (FAA), DOT.

ACTION: Final rule.

SUMMARY: This action removes Colored Federal airway, R-50, and amends Alaskan VOR Federal airway, V-319, and United States Area Navigation (RNAV) Routes T-219 and T-269 in Alaska. The modifications are necessary due to the planned decommissioning of the Nanwak Non-Directional Beacon (NDB) and Distance Measuring Equipment (DME) in Mekoryuk, AK, which provides navigation guidance for portions of the affected routes. The Nanwak NDB/DME (AIX) is to be decommissioned effective June 17, 2021 due to the high cost of maintenance.

DATES: Effective date 0901 UTC, August 12, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267 8783. The Order is also available for inspection at the National Archives and Records Administration (NARA). For information on the availability of FAA Order 7400.11E at NARA, email: fedreg.legal@nara.gov or go to https://www.archives.gov/federal-register/cfr/ibr-locations.html

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

History

The FAA published a notice of proposed rulemaking for Docket No. FAA-2020-0868 in the Federal Register (85 FR 64998; October 14, 2020) removing colored Federal airway, R-50, and amending Alaskan VHF Omnidirectional Radar (VOR) Federal airway, V-319, and United States Area Navigation (RNAV) routes T-219 and T-269 in Alaska. Interested parties were invited to participate in this rulemaking effort by submitting written comments on the proposal. No comments were received.

Colored and Alaskan VOR Federal airways are published in paragraph 6009 and 6010(b), and United States Area Navigation Routes are published in paragraph 2006 of FAA Order 7400.11E dated July 21, 2020, and effective September 15, 2020, which is incorporated by reference in 14 CFR 71.1. The Colored and Alaskan VOR Federal airways, and United States Area Navigation routes listed in this document will be subsequently published in the Order.

Differences From the NPRM

In the NPRM published in the Federal Register (85 FR 64998; October 14, 2020) proposal section, describing T-269, there is a typographical error. The way point CENTA is spelled incorrectly as CENTRA. This rule corrects that error in the Rule section.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This action amends 14 CFR part 71 by removing Colored Federal airway R-50, modifying Alaskan VOR Federal airway V-319, and United States Area Navigation routes T-219 and T-269. The Airway actions are described below.

R-50: R-50 currently extends between the Nanwak, AK, NDB and the Anvik, AK, NDB. This action removes the entire route.

V-319: V-319 currently extends between the Yakutat, AK and the Nanwak, AK, NDB. This action removes the segment from the Hooper Bay, AK, VOR/DME to the Nanwak, AK, NDB. The unaffected portions of the existing route remain as charted.

T-219: T-219 currently extends between the Nanwak, AK, NDB and the Dillingham, AK, VOR/DME. This action extends the airway from the MKLUK, AK, WP to the Hooper Bay, AK, VOR/DME. Additionally, the FAA is correcting the legal description, to include the NACIP, AK, WP and the ACATE, AK WP. Finally, this action corrects the legal description so that it denotes south to north track as it states in the FAA JO 7400.2M paragraph 20-1-5e2.

T-269: T-269 currently extends between the Annette Island, AK, VOR/DME and the Bethel, AK, VORTAC. This action extends the airway from the Bethel, AK, VORTAC to the MKLUK, AK, WP. Additionally, the FAA is incorporating eight additional waypoints and fixes that were not included in the legal description. These reporting points include TURTY, AK, WP; FLIPS, AK, FIX; HAPIT, AK, FIX; CENTA, AK, WP; KATAT, AK, WP; YONEK, AK, WP; VEILL, AK, WP, and VIDDA, AK, WP that contain a turn and are required to be included in the legal description as per the FAA JO 7400.2M paragraph 20-1-5h2.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of removing Colored Federal airway R-50, and modifying Alaskan VOR Federal airway V-319, and United States Area Navigation routes T-219 and T-269 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020 and effective September 15, 2020, is amended as follows:

Paragraph 6009 Colored Federal Airways.

* * * * *

R-50 [Removed]

* * * * *

Paragraph 6010 (b) Alaskan VOR Federal Airways

* * * * *

V-319 [Amended]

From Yakutat, AK, via Johnstone Point, AK, INT Johnstone Point 291° and Anchorage, AK, 125° radials; Anchorage, AK; Sparrevohn, AK; Bethel, AK; Hooper Bay, AK.

* * * * *

Paragraph 6011 United States Area Navigation Routes.

* * * * *

T-219 DLG to HPB [Amended]
DILLINGHAM, AK (DLG) | VOR/DME | (Lat. 58°59′39.24″ N, long. 158°33′07.99″ W)
NACIP, AK | WP | (Lat. 59°23′17.51″ N, long. 160°38′06.01″ W)
ACATE, AK | WP | (Lat. 59°42′50.93″ N, long. 162°33′09.70″ W)
RUFVY, AK | WP | (Lat. 59°56′34.16″ N, long. 164°02′03.72″ W)
MKLUK, AK | WP | (Lat. 60°26′40.04″ N, long. 165°55′17.28″ W)
HOOPER BAY, AK (HPB) | VOR/DME | (Lat. 61°30′51.65″ N, long. 166°08′04.13″ W)
* * * * * * *
T-269 ANN to MKLUK [Amended]
ANNETTE ISLAND, AK (ANN) | VOR/DME | (Lat. 55°03′37.47″ N, long. 131°34′42.24″ W)
TURTY, AK | WP | (Lat. 55°48′26.84″ N, long. 133°08′58.14″ W)
FLIPS, AK | FIX | (Lat. 56°34′32.58″ N, long. 134°52′46.97″ W)
BIORKA ISLAND, AK (BKA) | VORTAC | (Lat. 56°51′33.87″ N, long. 135°33′04.72″ W)
HAPIT, AK | WP | (Lat. 58°11′57.57″ N, long. 137°31′12.45″ W)
CENTA, AK | WP | (Lat. 59°00′21.35″ N, long. 138°48′10.27″ W)
YAKUTAT, AK (YAK) | VOR/DME | (Lat. 59°30′38.99″ N, long. 139°38′53.26″ W)
KATAT, AK | WP | (Lat. 60°15′29.17″ N, long. 144°42′18.77″ W)
JOHNSTONE POINT, AK (JOH) | VOR/DME | (Lat. 60°28′51.43″ N, long. 146°35′57.61″ W)
ANCHORAGE, AK (TED) | VOR/DME | (Lat. 61°10′04.32″ N, long. 149°57′36.51″ W)
YONEK, AK | WP | (Lat. 61°10′22.97″ N, long. 151°14′08.30″ W)
VEILL, AK | WP | (Lat. 61°08′13.91″ N, long. 154°15′45.68″ W)
SPARREVOHN, AK (SQA) | VOR/DME | (Lat. 61°05′54.89″ N, long. 155°38′04.49″ W)
VIDDA, AK | WP | (Lat. 60°52′41.05″ N, long. 160°28′33.09″ W)
BETHEL, AK (BET) | VORTAC | (Lat. 60°47′05.41″ N, long. 161°49′27.59″ W)
MKLUK, AK | WP | (Lat. 60°26′40.04″ N, long. 165°55′17.28″ W)

* * * * *

Issued in Washington, DC, on May 18, 2021.
George Gonzalez,
Acting Manager, Rules and Regulations Group.

[FR Doc. 2021-10898 Filed 5-21-21; 8:45 am]

BILLING CODE 4910-13-P